NUCLEAR REGULATORY COMMISSION

Sunshine Act Meeting

AGENCY HOLDING THE MEETING: Nuclear Regulatory Commission.

DATES: Weeks of April 5, 12, 19, 26, May 3, 10, 2004.

PLACE: Commissioners' Conference Room, 11555 Rockville Pike, Rockville, Maryland.

STATUS: Public and Closed.

MATTERS TO BE CONSIDERED:

Week of April 5, 2004

There are no meetings scheduled for the Week of April 5, 2004.

Week of April 12, 2004—Tentative

Tuesday, April 13, 2004

9:30 a.m. Briefing on Status of Office of Nuclear Regulatory Research (RES) Programs, Performance, and Plans (Public Meeting) (Contact: Alan Levin, 301-415-6656).

This meeting will be webcast live at the Web address— www.nrc.gov.

Week of April 19, 2004—Tentative

There are no meetings scheduled for the Week of April 19, 2004.

Week of April 26, 2004—Tentative

Wednesday, April 28, 2004

9:30 a.m. Discussion of Security Issues (Closed—Ex. 1)

Week of May 3, 2004—Tentative

Tuesday, May 4, 2004

9:30 a.m. Briefing on Results of the Agency Action Review Meeting (Public Meeting) (Contact: Bob Pascarelli, 301-415-1245).

This meeting will be webcast live at the Web address— www.nrc.gov.

Thursday, May 6, 2004

1:30 p.m. Meeting with Advisory Committee on Reactor Safeguards (ACRS) (Public Meeting) (Contact: John Larkins, 301-415-7360).

This meeting will be webcast live at the Web address— www.nrc.gov.

Week of May 10, 2004—Tentative

Tuesday, May 11, 2004

9:30 a.m. Briefing on Status of Office of International Programs (OIP) Programs, Performance, and Plans (Public Meeting) (Contact: Ed Baker, 301-415-2344).

This meeting will be webcast live at the Web address— www.nrc.gov.

1:30 p.m. Briefing on Threat Environment Assessment (Closed—Ex. 1).

The schedule for Commission meetings is subject to change on short notice. To verify the status of meetings call (recording)—(301) 415-1292. Contact person for more information: Dave Gamberoni, (301) 415-1651.

* * * * *

ADDITIONAL INFORMATION: By a vote of 3-0 on March 29, the Commission determined pursuant to U.S.C. 552b(e) and section 9.107(a) of the Commission's rules that “Discussion of Management Issues (Closed—Ex. 2)” be held March 29, and on less than one week's notice to the public.

By a vote of 3-0 on March 30, the Commission determined pursuant to U.S.C. 552b(e) and section 9.107(a) of the Commission's rules that “Discussion of Management Issues (Closed—Ex. 2)” be held March 31, and on less than one week's notice to the public.

* * * * *

The NRC Commissison Meeting Schedule can be found on the Internet at: www.nrc.gov/what-we-do/policy-making/schedule.html.

* * * * *

This notice is distributed by mail to several hundred subscribers; if you no longer with to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 1, 2004.
Dave Gamberoni,
Office of the Secretary.

[FR Doc. 04-7845 Filed 4-2-04; 9:35 am]

BILLING CODE 7590-01-M